DEPARTMENT OF AGRICULTURE

Forest Service

Notice of Issuance of Final Permanent Recreational Shooting Order in the Hyalite Creek Drainage of the Bozeman Ranger District of the Custer Gallatin National Forest

AGENCY: Forest Service, Agriculture (USDA).

ACTION: Notice.

SUMMARY: The U.S. Department of Agriculture, Forest Service (Agency), is issuing a final permanent order prohibiting recreational shooting in the Hyalite Creek Drainage, which covers 34,018 acres in Gallatin County, Montana, on the Bozeman Ranger District of the Custer Gallatin National Forest.

ADDRESSES: The final permanent recreational shooting order, map, justification for the final permanent order, and response to comments on the proposed permanent order are posted on the Custer Gallatin National Forest's web page at https://www.fs.usda.gov/alerts/custergallatin/alerts-notices.

FOR FURTHER INFORMATION CONTACT: Corey Lewellen, District Ranger, at 406-522-2531 or corey.lewellen@usda.gov. Individuals who use telecommunications devices for the hearing impaired may call 711 to reach the Telecommunications Relay Service, 24 hours a day, every day of the year, including holidays.

SUPPLEMENTARY INFORMATION: Section 4103 of the John D. Dingell, Jr. Conservation, Management, and Recreation Act of 2019 (Pub. L. 116-9, title IV; Sportsmen's Access and Related Matters), hereinafter “the Dingell Act,” requires the Forest Service to provide advance notice and opportunity for public comment before temporarily or permanently closing any National Forest System lands to hunting, fishing, or recreational shooting.

The Forest Service has completed the public notice and comment process required under the Dingell Act for the permanent order prohibiting recreational shooting in the Hyalite Creek Drainage on the Bozeman Ranger District of the Custer Gallatin National Forest. The Agency is issuing the final permanent order prohibiting recreational shooting. The final permanent recreational shooting order, map, justification for the final permanent recreational shooting order, and the response to comments on the proposed permanent recreational shooting order are posted on the Custer Gallatin National Forest's web page at https://www.fs.usda.gov/alerts/custergallatin/alerts-notices.

Dated: August 12, 2024.
Jacqueline Emanuel,
Associate Deputy Chief, National Forest System.

[FR Doc. 2024-18359 Filed 8-20-24; 8:45 am]

BILLING CODE 3411-15-P